DEPARTMENT OF HOMELAND SECURITY

Federal Emergency Management Agency

44 CFR Part 67

[Docket ID FEMA-2008-0020; Internal Agency Docket No. FEMA-B-1083]

Proposed Flood Elevation Determinations

AGENCY: Federal Emergency Management Agency, DHS.

ACTION: Proposed rule; correction.

SUMMARY: On December 16, 2009, FEMA published in the Federal Register a proposed rule that included an erroneous flooding source name for the Town of Livonia in Pointe Coupee Parish, Louisiana. The flooding source name of Bayou Fordoche, in effect for the location approximately 0.47 mile downstream of I-190 and approximately 1.21 miles upstream of I-190 should have been listed as Bayou Grosse Tete.

DATES: Comments pertaining to the Bayou Grosse Tete Base Flood Elevations for the location approximately 0.47 mile downstream of I-190 and approximately 1.21 miles upstream of I-190 are to be submitted on or before November 26, 2012.

ADDRESSES: You may submit comments, identified by Docket No. FEMA-B-1083, to Luis Rodriguez, Chief, Engineering Management Branch, Federal Insurance and Mitigation Administration, Federal Emergency Management Agency, 500 C Street SW., Washington, DC 20472, (202) 646-4064 or (email) Luis.Rodriguez3@fema.dhs.gov.

FOR FURTHER INFORMATION CONTACT: Luis Rodriguez, Chief, Engineering Management Branch, Federal Insurance and Mitigation Administration, Federal Emergency Management Agency, 500 C Street SW., Washington, DC 20472, (202) 646-4064 or (email) Luis.Rodriguez3@fema.dhs.gov.

SUPPLEMENTARY INFORMATION: The Federal Emergency Management Agency (FEMA) publishes proposed determinations of Base (1% annual-chance) Flood Elevations (BFEs) and modified BFEs for communities participating in the National Flood Insurance Program (NFIP), in accordance with section 110 of the Flood Disaster Protection Act of 1973, 42 U.S.C. 4104, and 44 CFR 67.4(a).

These proposed BFEs and modified BFEs, together with the floodplain management criteria required by 44 CFR 60.3, are minimum requirements. They should not be construed to mean that the community must change any existing ordinances that are more stringent in their floodplain management requirements. The community may at any time enact stricter requirements of its own or pursuant to policies established by other Federal, State, or regional entities. These proposed elevations are used to meet the floodplain management requirements of the NFIP and also are used to calculate the appropriate flood insurance premium rates for new buildings built after these elevations are made final, and for the contents in those buildings.

Correction

In the proposed rule published at 74 FR 66602, in the December 16, 2009, issue of the Federal Register, FEMA published a table under the authority of 44 CFR 67.4. The table, entitled “Pointe Coupee Parish, Louisiana, and Incorporated Areas” addressed several flooding sources, including Bayou Fordoche. The proposed rule incorrectly listed the flooding source name, Bayou Fordoche, for the location approximately 0.47 mile downstream of I-190 and approximately 1.21 miles upstream of I-190. The correct flooding source name is Bayou Grosse Tete. This proposed rule correction is reopening the comment period for Bayou Grosse Tete, for the location approximately 0.47 mile downstream of I-190 and approximately 1.21 miles upstream of I-190, due to the error in listing the flooding source name in the previously published proposed rule at 74 FR 66602.

(Catalog of Federal Domestic Assistance No. 97.022, “Flood Insurance.”)

Dated: August 8, 2012.
Sandra K. Knight,
Deputy Associate Administrator for Mitigation, Department of Homeland Security, Federal Emergency Management Agency.

[FR Doc. 2012-20981 Filed 8-24-12; 8:45 am]

BILLING CODE 9110-12-P